FEDERAL ACCOUNTING STANDARDS ADVISORY BOARD

Notice of Issuance of Statement of Federal Financial Accounting Standards 45 and Scheduled Public Hearing

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has issued Statement of Federal Financial Accounting Standard 45, Deferral of the Transition to Basic Information for Long-Term Projections.

The Standard is available at http://www.fasab.gov/accounting-standards/authoritative-source-of-gaap/accounting-standards/fasab-handbook/

For assistance in accessing the document contact FASAB at (202) 512-7350.

Notice is also given that the Federal Accounting Standards Advisory Board (FASAB) will hold a public hearing in conjunction with its August 28, 2013 Board meeting to hear testimony about comments on the recently published exposure draft (ED) Reporting Entity. The public hearing will also permit the Board to ask questions about information and points of view submitted by respondents. Those interested in testifying should contact Melissa Loughan, Assistant Director, no later than one week prior to the hearing. Ms. Loughan can be reached at 202-512-5976 or via email at loughanm@fasab.gov. Also, they should at the same time provide a short biography and written copies of their testimony. The ED is available on the FASAB Web site http://www.fasab.gov/board-activities/documents-for-comment/exposure-drafts-and-documents-for-comment/.

Any interested person may attend the meetings as an observer. Board discussion and reviews are open to the public. GAO Building Security requires advance notice of your attendance. Please notify FASAB of your planned attendance by calling 202-512-7352 at least one day prior to the respective meeting.

FOR FURTHER INFORMATION CONTACT: Wendy M. Payne, Executive Director, 441 G St. NW., Mail Stop 6H19, Washington, DC 20548 or call 202-512-7350.

Authority: Federal Advisory Committee Act, Pub. L. 92-463.

Dated: July 10, 2013.
Charles Jackson,
Federal Register Liaison Officer.

[FR Doc. 2013-16925 Filed 7-15-13; 8:45 am]

BILLING CODE 1610-02-P